DEPARTMENT OF THE INTERIOR

Fish and Wildlife Service

Supplement to the Draft Comprehensive Conservation Plan and Environmental Impact Statement for the Upper Mississippi River National Wildlife and Fish Refuge, Illinois, Iowa, Minnesota, and Wisconsin

AGENCY: Fish and Wildlife Service, Interior.

ACTION: Notice of availability.

SUMMARY: The U.S. Fish and Wildlife Service announces that the Supplement to the Draft Comprehensive Conservation Plan (CCP) and Environmental Impact Statement (EIS) is available for Upper Mississippi River National Wildlife and Fish Refuge. The Supplement to the Draft CCP/EIS was prepared pursuant to the National Wildlife Refuge System Administration Act of 1966, as amended by the National Wildlife Refuge System Improvement Act of 1997, and the National Environmental Policy Act of 1969. Goals and objectives in the CCP describe how the agency intends to manage the refuge over the next 15 years.

DATES: Written comments on the Supplement to the Draft CCP/EIS will be accepted up to 60 days after publication of this notice in the Federal Register.

ADDRESSES: Copies of the Supplement are available on compact disk or hard copy. You may access and download a copy via the planning Web site http://fws.gov/midwest/planning/uppermiss/index.html or you may obtain a copy by writing to the following address: U.S. Fish and Wildlife Service, Division of Conservation Planning, Bishop Henry Whipple Federal Building, 1 Federal Drive, Fort Snelling, Minnesota 55111.

All comments should be addressed to Upper Mississippi National Wildlife and Fish Refuge, Attention: CCP Supplement Comment, 51 East 4th Street, Room 101, Winona, Minnesota 55987, or direct e-mail to r3planning@fws.gov. Comments may also be submitted through the Service's regional Web site at: http://www.fws.gov/midwest/planning/uppermiss/index.html.

FOR FURTHER INFORMATION CONTACT: Don Hultman, at (507) 452-4232.

SUPPLEMENTARY INFORMATION: The Upper Mississippi River National Wildlife and Fish Refuge encompasses 240,000 acres along 261 miles of Mississippi River floodplain in Minnesota, Wisconsin, Iowa, and Illinois. The Refuge was established by Congress in 1924 to provide a refuge and breeding ground for migratory birds, fish, other wildlife, and plants. The Refuge is perhaps the most important corridor of habitat in the central United States due to its species diversity and abundance, and is the most visited refuge in the United States with 3.7 million annual visitors.

The Draft CCP/EIS was released for public review May 1, 2005, for a 120-day comment period ending August 31, 2005. The Refuge hosted 21 public meetings and workshops attended by 2,900 people. The workshops resulted in 87 workgroup reports with comments or recommendations on major issues. We also received 2,438 written comments including comments from the four states involved, the Corps of Engineers, and 41 conservation or recreation-related organizations, and 6 petitions with more than 3,000 signatures.

In response to the high degree of public interest and comment, in July 2005 we announced through the media the intent to issue a new preferred alternative following the comment period to reflect the input received. This Supplement is the new preferred alternative and is called Alternative E—Modified Wildlife and Integrated Public Use Focus. This new preferred alternative, along with the previous four alternatives, will be included in the Final CCP/EIS.

The Supplement contains both substantive and editorial changes to Alternative D, the initial preferred alternative. Substantive changes were made to several objectives which addressed several issues or topics, including: no hunting zones around some hiking/observation trails, changes to the boundaries and regulations for the Waterfowl Hunting Closed Areas, a 25 daily shotshell limit and 100 yard spacing requirement for waterfowl hunting, a managed hunt to address a waterfowl hunting firing line, changes to camping and other beach-related recreational use, proposed Electric Motor Areas, and boat ramp launch fees.

The National Wildlife Refuge System Administration Act of 1966, as amended by the National Wildlife Refuge System Improvement Act of 1997 (16 U.S.C. 668dd-668ee et seq.) requires the Service to develop a CCP for each National Wildlife Refuge. The purpose in developing a CCP is to provide refuge managers with a 15-year strategy for achieving refuge purposes and contributing toward the mission of the National Wildlife Refuge System, consistent with sound principles of fish and wildlife management, conservation, legal mandates, and Service policies. In addition to outlining broad management direction for conserving wildlife and their habitats, the CCP identifies wildlife-dependent recreational opportunities available to the public, including opportunities for hunting, fishing, wildlife observation and photography, and environmental education and interpretation. We will review and update these CCPs at least every 15 years in accordance with the National Wildlife Refuge System Administration Act of 1966, as amended by the National Wildlife Refuge System Improvement Act of 1997, and the National Environmental Policy Act of 1969 (42 U.S.C. 4321-4370d).

Dated: October 24, 2005.
Charles M. Wooley,
Acting Regional Director, U.S. Fish and Wildlife Service, Ft. Snelling, Minnesota.

[FR Doc. E5-6814 Filed 12-2-05; 8:45 am]

BILLING CODE 4310-55-P